DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Vessel Monitoring System Requirement for American Samoa Pelagic Longline Fishery.

OMB Control Number: 0648-0519.

Form Number(s): None.

Type of Request: Regular submission.

Burden Hours: 96.

Number of Respondents: 40.

Average Hours per Response: VMS installation, 4 hours; and annual maintenance, 2 hours (Automatic transmissions are not counted as burden).

Needs and Uses: Under Amendment 11 to the Fishery Management Plan for Pelagic Fisheries of Western Pacific Region, owners of large vessels (>50 ft in length) registered for use with American Samoa longline limited access permits must allow National Marine Fisheries Service (NMFS) to install vessel monitoring system (VMS) units on their vessels when directed to do so by NMFS enforcement personnel. VMS units automatically send periodic reports on the position of the vessel. NMFS uses the reports to monitor the vessel's location and activities while enforcing area closures. NMFS pays for the units and messaging.

Affected Public: Business or other for-profit organizations.

Frequency: Annually and hourly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 20, 2008.
Gwellnar Banks,
Management Analyst, Office of the Chief Information Officer.

[FR Doc. E8-11598 Filed 5-22-08; 8:45 am]

BILLING CODE 3510-22-P